DEPARTMENT OF JUSTICE

Notice of Lodging of Consent Decree Under the Comprehensive Environmental Response, Compensation and Liability Act

Notice is hereby given that on April 11, 2003, a proposed consent decree in United States v. IT Higbie Manufacturing Co. et al., Civil Action No. 02-74727 was lodged with the United States District Court for the Eastern District of Michigan.

This Consent Decree resolves specified claims against twelve defendants and thirteen third-party defendants under the Comprehensive Response, Compensation, and Liability Act of 1980, as amended (“CERCLA”), 42 U.S.C. 9601 et seq., relating to the AABCO Road Oiling & Waste Oil Service, Inc. Superfund Site (“Site”) in Detroit, Michigan. The consent decree requires the twenty-five (25) settling defendants and third-party defendants to reimburse the Superfund in the amount of $464,000 for the United States' past costs of response actions relating to the Site.

The Department of Justice will receive for a period of thirty (30) days from the date of this publication comments relating to this settlement. Comments should be addressed to the Assistant Attorney General, Environment and Natural Resources Division, P.O. Box 7611, U.S. Department of Justice, Washington, DC 20044-7611, and should refer to United States v. IT Higbie Manufacturing Co. et al., Civil Action No. 02-74727, D.J. Ref. 90-11-3-07266.

The consent decree for this settlement may be examined at the Office of the United States Attorney, 211 West Fort Street, Suite 2300, Detroit, Michigan 48226-3211, and at U.S. EPA Region V, 77 West Jackson Boulevard, Chicago, Illinois 60604. During the public comment period, the consent decree for this settlement, may also be examined on the following Department of Justice Web site, http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $12.25 (25 cents per page reproduction cost) payable to the U.S. Treasury.

William D. Brighton,
Assistant Chief, Environmental Enforcement Section, Environment and Natural Resources Division.

[FR Doc. 03-10709 Filed 4-30-03; 8:45 am]

BILLING CODE 4410-15-M